ENVIRONMENTAL PROTECTION AGENCY

[EPA-HQ-OA-2006-0278; FRL-9192-3]

Agency Information Collection Activities; Submission to OMB for Review and Approval; Comment Request; Minority Business Enterprise/Woman Business Enterprise (MBE/WBE) Utilization Under Federal Grants, Cooperative Agreements, and Interagency Agreements (Reinstatement); EPA ICR No. 2212.03, OMB Control No. 2090-0025

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before September 23, 2010.

ADDRESSES: Submit your comments, referencing Docket ID No. EPA-HQ-OA-2006-0278, (1) to EPA online using http://www.regulations.gov (our preferred method), by e-mail to oei.docket@epa.gov, or by mail to: EPA Docket Center, Environmental Protection Agency, MBE/WBE Utilization Under Federal Grants, Cooperative Agreements, and Interagency Agreements, Mailcode: 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Kimberly Y. Patrick, Office of Small Business Programs, Mailcode: 1230T, Environmental Protection Agency, 1200 Pennsylvania Ave., NW., Washington, DC 20460; telephone number: 202-566-2605; fax number: 202-566-0548; e-mail address: Patrick.Kimberly@epa.gov.

SUPPLEMENTARY INFORMATION: EPA has submitted the following ICR to OMB for review and approval according to the procedures prescribed in 5 CFR 1320.12. On September 22, 2009 (74 FR 48265), EPA sought comments on this ICR pursuant to 5 CFR 1320.8(d). EPA received no comments. Any additional comments on this ICR should be submitted to EPA and OMB within 30 days of this notice.

EPA has established a public docket for this ICR under Docket ID No. EPA-HQ-OA-2006-0278, which is available for online viewing at http://www.regulations.gov, or in person viewing at the Office of Environmental Information Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Office of Environmental Information Docket is 202-566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidential Business Information (CBI), or other information whose public disclosure is restricted by statute. For further information about the electronic docket, go to http://www.regulations.gov.

Title: Minority Business Enterprise/Woman Business Enterprise (MBE/WBE) Utilization Under Federal Grants, Cooperative Agreements, and Interagency Agreements (Renewal).

ICR numbers: EPA ICR No. 2212.03, OMB Control No. 2090-0025.

ICR Status: This ICR seeks reinstatement of a previously approved information collection activity that expired on October 31, 2009. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: All EPA financial assistance agreement recipients are required to make good faith efforts to assure that small, minority and women owned businesses are used, when possible, as sources of construction, services, equipment, and supplies. The completion and submission of EPA Form 5700-52A is mandatory. The information collected by EPA Form 5700-52A is used to compile data concerning the utilization of minority and women owned businesses as contractors and subcontractors under procurements funded by EPA financial assistance agreements pursuant to Executive Orders 11625, 12138, and 12432, and Public Laws 101-507 and 102-389. The effectiveness of EPA's MBE/WBE Program is measured through this reporting requirement. The modifications to the form were made to simplify and shorten the form itself. The instructions in the modified form also provide more information about questions frequently asked by respondents.

Burden Statement: The annual public reporting and recordkeeping burden for this collection of information is estimated to average 1.5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 3,600.

Frequency of response: Depending on the type of financial assistance received, respondents either report on an annual, semi-annual, or quarterly basis.

Estimated total average number of responses for each respondent: 2.5 average responses per year, including annual and quarterly respondents.

Estimated total annual burden hours: 9,000.

Estimated total annual costs: $606,960. This includes $0 annualized capital startup costs, $0 annualized O&M costs, and $606,960 annualized labor costs.

Changes in the Estimates: The estimates reflect a decrease in Respondent and Agency burden hours due to a transition from quarterly reporting to semi-annual reporting. There was an increase in Respondent total costs per year due to the use of an updated wage rate for employee compensation. The current rate ($48.17) was taken from the December 2009 Bureau of Labor Statistics release, while the prior estimate utilized the March 2005 wage rate ($36.28). In addition, the estimates reflect a decrease in Agency burden hours and costs due to a transition from quarterly reporting to semi-annual reporting. While there is still a percentage of Respondents that will continue to report quarterly, this group will diminish over time because only those agreements awarded prior to May 27, 2008 may still report quarterly. The burden estimate was also revised to include annual, semi-annual, and quarterly reporting. These changes are categorized as adjustments. We received no comments regarding the form from our consultation efforts or from public comments, therefore, the hours to gather information to complete the form were not changed. The total burden hours remains at 1.5 burden hours.

Dated: August 18, 2010.
Joseph A. Sierra,
Acting Director, Collection Strategies Division.

[FR Doc. 2010-20998 Filed 8-23-10; 8:45 am]

BILLING CODE 6560-50-P